DEPARTMENT OF DEFENSE

Department of the Air Force

HQ USAF Scientific Advisory Board Meeting

The Electronics Targets Panel Meeting will meet in Washington, DC on May 8-10, 2001 from 8 a.m. to 5 p.m.

The purpose of the meeting is to receive briefings and discuss the direction of the study. The meeting will be closed to the public in accordance with Section 552b(c) of Title 5, United States Code, specifically subparagraphs (1) and (4) thereof.

For further information, contact the HQ USAF Scientific Advisory Board Secretariat at (703) 697-8404.

Janet A. Long,
Air Force Federal Register Liaison Officer.

[FR Doc. 01-10879 Filed 5-1-01; 8:45 am]

BILLING CODE 5001-05-U